FEDERAL COMMUNICATIONS COMMISSION

[OMB 3060-0922; FR ID 206806]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before May 6, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-0922.

Title: Mid-Term Self-Identification.

Form Number: N/A.

Type of Review: Extension of a currently approved collection.

Respondents: Business or other for-profit entities, Not-for-profit institutions.

Number of Respondents and Responses: 1,168 respondents; 1,168 responses.

Estimated Time per Response: 1.2 minutes (0.02 hours).

Frequency of Response: Mid-term reporting requirement, generally once every eight years.

Obligation to Respond: Required to obtain or retain benefits. The statutory authority which covers this information collection is contained in Section 154(i) and 303 of the Communications Act of 1934, as amended.

Total Annual Burden: 23 hours.

Total Annual Cost: No Cost.

Needs and Uses: On February 15, 2019, the Commission released a Report and Order (Order), MB Docket No. 18-23, FCC 19-10; In the Matter of Elimination of Obligation to File Broadcast Mid-Term Report (Form 397) Under Section 73.2080(f)(2). The Order eliminated the provision of Section 73.2080(f)(2) which required stations to file Form 397 and, as announced via Public Notice on May 11, 2023,¹ replaced it with a technological approach designed to be more efficient and less burdensome to licensees. Now, when uploading their annual EEO public file report to the Commission's Online Public Inspection File (OPIF), broadcast radio and Satellite Digital Audio Radio Services (SDARS) ² licensees are required at the mid-point of their license term once every eight years ³ to answer “Yes” or “No” to indicate whether they have eleven or more full-time employees, which is the threshold number of employees triggering a mid-term review for radio and SDARS employment units. All television stations uploading an EEO public file report to the OPIF are necessarily subject to a mid-term review because the requisite staff size for both obligations is five full-time employees for television employment units. Thus, the very act of posting the report to the OPIF is sufficient to identify television stations subject to a mid-term review.

¹ See Broadcast Equal Employment Opportunity Mid-Term Review Cycle Commences June 1, 2023, Public Notice, DA 23-381, 2023 WL 3476411 (EB May 11, 2023).

² Satellite radio (also referred to as “Satellite Digital Audio Radio Services” or “SDARS”) licensees are required to comply with the Commission's EEO broadcast rules and policies. They must engage in the same recruitment, outreach, public file, website posting, record-keeping, reporting, and self-assessment obligations required of broadcast licensees, and are subject to the same EEO policies. See Applications for Consent to the Transfer of Control of Licenses, XM Satellite Radio Holdings Inc., Transferor, to Sirius Satellite Radio Inc., Transferee, 23 FCC Rcd 12348, 12426, ¶ 174, and note 551 (2008). See also Establishment of Rules and Policies for the Digital Audio Radio Satellite Service in the 2310-2360 MHz Frequency Band, 12 FCC Rcd 5754, 5791-92, ¶¶ 91-92 (1997), FCC 97-70.

³ In order to meet OMB's requirements, the Commission annualized its burden because the information is collected every eight years.

Federal Communications Commission.
Marlene Dortch,
Secretary, Office of the Secretary.

[FR Doc. 2024-04808 Filed 3-6-24; 8:45 am]

BILLING CODE 6712-01-P